UNITED STATES INSTITUTE OF PEACE

Notice Regarding Board of Directors Meetings

AGENCY: United States Institute of Peace (USIP) and Endowment of the United States Institute of Peace.

ACTION: Announcement of meeting.

SUMMARY: USIP announces the next meeting of the Board of Directors.

DATES: Friday, July 21, 2023 (9:00 a.m.).

The next meeting of the Board of Directors will be held October 20, 2023.

ADDRESSES: 2301 Constitution Avenue NW, Washington, DC 20037

FOR FURTHER INFORMATION CONTACT: Megan O'Hare, 202-429-4144, mohare@usip.gov.

SUPPLEMENTARY INFORMATION: Open Session—Portions may be closed pursuant to subsection (c) of section 552b of title 5, United States Code, as provided in subsection 1706(h)(3) of the United States Institute of Peace Act, Public Law 98-525.

Authority: 22 U.S.C. 4605(h)(3).

Dated: July 14, 2023.
Rebecca Fernandes,
Director of Accounting.

[FR Doc. 2023-15349 Filed 7-19-23; 8:45 am]

BILLING CODE 2810-03-P